DEPARTMENT OF THE INTERIOR

Fish and Wildlife Service

[FWS-R3-ES-2018-N005; FXES11130300000-189-FF03E00000]

Endangered and Threatened Wildlife and Plants; Permit Applications

AGENCY: Fish and Wildlife Service, Interior.

ACTION: Notice of availability; request for comments.

SUMMARY: We, the U.S. Fish and Wildlife Service, invite the public to comment on applications for permits to conduct activities intended to enhance the propagation or survival of endangered or threatened species. Federal law prohibits certain activities with endangered species unless a permit is obtained.

DATES: We must receive any written comments on or before March 26, 2018.

ADDRESSES: Send written comments by U.S. mail to the Regional Director, Attn: Carlita Payne, U.S. Fish and Wildlife Service, Ecological Services, 5600 American Blvd. West, Suite 990, Bloomington, MN 55437-1458; or by electronic mail to permitsR3ES@fws.gov.

Requesting Copies of Applications or Public Comments: Copies of applications or public comments concerning any of the applications in this notice may be obtained by any party who submits a written request for a copy of such documents to the above-mentioned office within 30 days of the date of publication of this notice, subject to the requirements of the Privacy Act (5 U.S.C. 552a) and the Freedom of Information Act (5.U.S.C. 552).

Submitting Comments: You may submit comments by one of the following methods. Please specify applicant name(s) and application number(s) to which your comments pertain (e.g., TEXXXXXX).

• Email: permitsR3ES@fws.gov. Please refer to the respective permit number (e.g., Application No. TEXXXXXX) in the subject line of your email message.

• U.S. Mail: Regional Director, Attn: Carlita Payne (address above).

FOR FURTHER INFORMATION CONTACT: Carlita Payne, 612-713-5343; permitsR3ES@fws.gov.

SUPPLEMENTARY INFORMATION: We, the U.S. Fish and Wildlife Service, invite the public to comment on the following applications for a permit to conduct activities intended to enhance the propagation or survival of endangered or threatened species. Federal law prohibits certain activities with endangered species unless a permit is obtained.

Background

The Endangered Species Act of 1973, as amended (16 U.S.C. 1531 et seq.; ESA), prohibits certain activities with endangered and threatened species unless the activities are specifically authorized by a Federal permit. The ESA and our implementing regulations in part 17 of title 50 of the Code of Federal Regulations (CFR) provide for the issuance of such permits and require that we invite public comment before issuing permits for activities involving endangered species.

A permit granted by us under section 10(a)(1)(A) of the ESA authorizes the permittee to conduct activities with U.S. endangered or threatened species for scientific purposes, enhancement of propagation or survival, or interstate commerce (the latter only in the event that it facilitates scientific purposes or enhancement of propagation or survival). Our regulations implementing section 10(a)(1)(A) of the ESA for these permits are found at 50 CFR 17.22 for endangered wildlife species, 50 CFR 17.32 for threatened wildlife species, 50 CFR 17.62 for endangered plant species, and 50 CFR 17.72 for threatened plant species.

Permit Applications Available for Review and Comment

We invite local, State, Tribal, and Federal agencies and the public to comment on the following applications. Please refer to the permit number when you submit comments. Documents and other information the applicants have submitted with the applications are available for review, subject to the requirements of the Privacy Act (5 U.S.C. 552a) and Freedom of Information Act (5 U.S.C. 552).

Permit Applications

Proposed activities in the following permit requests are for the recovery and enhancement of propagation or survival of the species in the wild.

Application No. | Applicant | Species | Location | Activity | Type of take | Permit action
TE64079B | Minnesota Zoological Garden, Apple Valley, MN | Dakota skipper (Hesperia dacotae), Poweshiek skipperling (Oarisma poweshiek) | IA, MI, MN, ND, SD, WI | Conduct presence/absence surveys, conduct population monitoring | Capture, handle, collect eggs, propagate, release | Amend, renew.
TE85228B | Eric Schroder, Fairmont, WV | Add Indiana bat (Myotis sodalis) and Virginia big-eared bat (Corynorhinus townsendii virginianus) to existing permitted species: Northern long-eared bat (M. septentrionalis) | Add new locations—AL, AR, CT, GA, IL, KY, MD, MI, MN, MS, MO, NJ, NY, NC, OH, OK, PA, TN, VT, WI, WV—to existing authorized locations: Northern IA, northern MI, central/southern AL, central/southern AR, central/southern GA, LA, central/southern MS, central/eastern NC, SC, northern CT, DE, DC, southern/eastern MD, MA, NH, southern NJ, RI, eastern VT, central/eastern VA, KS, MT, NE, ND, SD, IA | Conduct presence/absence surveys, document habitat use, conduct population monitoring, evaluate impacts | Capture, handle, mist-net, radio-tag, band, release | Amend, renew.
TE73587A | Missouri Department of Conservation, Jefferson City, MO | Ozark hellbender (Cryptobranchus alleganiensis bishop) | MO | Research, conduct presence/absence surveys, document habitat use, conduct population monitoring, evaluate impacts | Capture, handle, collect sperm and eggs, transport, hold, propagate, pit-tag, augment, reintroduce, release | Renew.
TE71682A | Megan Martin, Indianapolis, IN | Add northern long-eared bat (Myotis septentrionalis) to existing permitted species: Indiana bat (M. sodalis), gray bat (M. grisescens) | AL, AR, CT, DE, DC, FL, GA, IL, IN, IA, KY, MA, MD, MI, MS, MN, MO, NH, NJ, NY, NC, OK, OH, PA, RI, SC, TN, VT, VA, WV, WI | Conduct presence/absence surveys, document habitat use, conduct population monitoring, evaluate impacts | Add new activity—band—to existing authorized activities: Capture, handle, mist-net, radio-tag, release | Amend, renew.
TE62286A | Jason Whittle, Richfield, OH | Indiana bat (Myotis sodalis), northern long-eared bat (M. septentrionalis) | AL, AR, CT, GA, IL, IN, IA, KY, ME, MD, MA, MI, MS, MO, NH, NJ, NY, NC, OK, OH, PA, SC, TN, VT, VA, WV | Conduct presence/absence surveys, document habitat use, conduct population monitoring, evaluate impacts | Capture, handle, mist-net, harp trap, radio-tag, band, wing biopsy, collect hair, fungal lift tape and swab samples, release | Renew.
TE151107 | Redwing Ecological Services, Inc., Louisville, KY | Indiana bat (Myotis sodalis), gray bat (M. grisescens), northern long-eared bat (M. septentrionalis), Ozark big-eared bat (Corynorhinus towsendii ingens), Virginia big-eared bat (C.t. virginianus) | AL, AR, CT, DE, GA, IL, IN, IA, KY, MD, MA, MI, MS, MO, NH, NJ, NY, NC, OK, OH, PA, RI, SC, TN, VT, VA, WV, WI | Conduct presence/absence surveys, document habitat use, conduct population monitoring, evaluate impacts | Capture, handle, mist-net, harp trap, radio-tag, band, enter hibernacula, release | Renew.
TE64074B | TeaLeaf Ecological, LLC, Chambersburg, PA | Indiana bat (Myotis sodalis), gray bat (M. grisescens), northern long-eared bat (M. septentrionalis), Virginia big-eared bat (Corynorhinus towsendii virginianus) | AL, AR, CT, DE, DC, FL, GA, IL, IN, IA, KS, KY, LA, ME, MD, MA, MI, MN, MS, MO, MT, NE, NH, NJ, NY, NC, ND, OH, OK, PA, RI, SC, SD, TN, VT, VA, WV, WI, WY | Conduct presence/absence surveys, document habitat use, conduct population monitoring, evaluate impacts | Capture, handle, mist-net, harp trap, radio-tag, band, wing biopsy, collect hair, fungal lift tape and swab samples, release | Renew.
TE74592A | Robert Brown, Cincinnati, OH | Indiana bat (Myotis sodalis), gray bat (M. grisescens), northern long-eared bat (M. septentrionalis), Ozark big-eared bat (Corynorhinus towsendii ingens), Virginia big-eared bat (C.t. virginianus) | Add new locations—DC, FL, LA, ME, MN, MT, NE, ND, SD, WY—to existing authorized locations: AL, AR, CT, DE, GA, IL, IN, IA, KS, KY, MD, MA, MI, MS, MO, NH, NJ, NY, NC, OH, OK, PA, RI, SC, TN, VT, VA, WV, WI | Conduct presence/absence surveys, document habitat use, conduct population monitoring, evaluate impacts | Add new activities—collect hair and guano samples—to existing authorized activities: Capture, handle, mist-net, harp trap, radio-tag, band, enter hibernacula, release | Amend, renew.
TE30970B | Jeffrey Miller, Vancouver, WA | Indiana bat (Myotis sodalis), gray bat (M. grisescens), northern long-eared bat (M. septentrionalis), Ozark big-eared bat (Corynorhinus towsendii ingens) | AR, CT, DE, DC, IL, IN, IA, KS, KY, ME, MD, MA, MI, MN, MO, NH, NJ, NY, ND, OH, OK, PA, RI, SD, TN, VT, VA, WV, WI | Conduct presence/absence surveys, document habitat use, conduct population monitoring, evaluate impacts | Capture, handle, mist-net, harp trap, radio-tag, release, salvage | Renew.
TE21829B | Larisa Bishop-Boros, Laramie, WY | Add lesser long-nosed bat (Leptonycteris curasoae yerbabuenae) to existing permitted species: Indiana bat (Myotis sodalis), gray bat (M. grisescens), northern long-eared bat (M. septentrionalis), Ozark big-eared bat (Corynorhinus towsendii ingens), Virginia big-eared bat (C.t. virginianus) | Add new locations—AZ, NM—to existing authorized locations: AL, AR, CT, DE, DC, FL, GA, IL, IN, IA, KS, KY, LA, ME, MD, MA, MI, MN, MS, MO, MT, NE, NH, NJ, NY, NC, ND, OH, OK, PA, RI, SC, SD, TN, VT, VA, WV, WI, WY | Conduct presence/absence surveys, document habitat use, conduct population monitoring, evaluate impacts | Add new activities—collect pollen samples, light-tag, enter roosts—to existing authorized activities: Capture, handle, mist-net, harp trap, radio-tag, wing biopsy, collect hair, guano, fungal lift tape and swab samples, enter hibernacula, release, salvage | Amend, renew.
TE70488C | Scott Bergeson, Fort Wayne, IN | Indiana bat (Myotis sodalis), gray bat (M. grisescens), northern long-eared bat (M. septentrionalis) | AL, AR, CT, DE, FL, GA, IN, IA, KS, KY, ME, MD, MA, MI, MN, MS, MO, NE, NH, NY, NC, ND, OH, OK, PA, RI, SC, SD, TN, VT, VA, WV, WI | Conduct presence/absence surveys, document habitat use, conduct population monitoring, evaluate impacts | Capture, handle, mist-net, harp trap, radio-tag, band, wing biopsy, collect hair samples, enter hibernacula and maternity roost caves, release, salvage | New.
TE35859B | Charles Mills, Newburgh, IN | Least tern (Sterna antillarum) | IN | Conduct population monitoring, document reproductive behavior and productivity | Harass, handle eggs, salvage | Amend, renew.
TE90090B | Power Engineers Inc., Freeport, Maine | Remove 83 mussel species and 41 fish species from existing permitted species: Northern long-eared bat (Myotis septentrionalis) | DE, KS, ME, MA, MN, MT, NE, NH, ND, OK, RI, SD, WI, WY | Conduct presence/absence surveys, document habitat use, conduct population monitoring, evaluate impacts | Capture, handle, mist-net, release | Amend, renew.

Public Availability of Comments

We seek public review and comments on these permit applications. Please refer to the permit number when you submit comments. Comments and materials we receive in response to this notice are available for public inspection, by appointment, during normal business hours at the address listed in ADDRESSES.

Before including your address, phone number, email address, or other personal identifying information in your comment, you should be aware that your entire comment—including your personal identifying information—may be made publicly available at any time. While you can ask us in your comment to withhold your personal identifying information from public review, we cannot guarantee that we will be able to do so.

Contents of Public Comments

Please make your comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations.

Next Steps

If the Service decides to issue permits to any of the applicants listed in this notice, we will publish a notice in the Federal Register.

Authority

Section 10 of the Endangered Species Act of 1973, as amended (16 U.S.C. 1531 et seq.).

Dated: January 10, 2018.
Lori H. Nordstrom,
Assistant Regional Director, Ecological Services, Midwest Region.

[FR Doc. 2018-03725 Filed 2-22-18; 8:45 am]

BILLING CODE 4333-15-P